DEPARTMENT OF COMMERCE

Foreign-Trade Zones Board

[S-134-2018]

Approval of Subzone Status; Digi-Key Corporation; Thief River Falls, Minnesota

On August 24, 2018, the Executive Secretary of the Foreign-Trade Zones (FTZ) Board docketed an application submitted by the Koochiching Economic Development Authority, grantee of FTZ 259, requesting subzone status subject to the existing activation limit of FTZ 259, on behalf of Digi-Key Corporation, in Thief River Falls, Minnesota.

The application was processed in accordance with the FTZ Act and Regulations, including notice in the Federal Register inviting public comment (83 FR 44565-44566, August 31, 2018). The FTZ staff examiner reviewed the application and determined that it meets the criteria for approval. Pursuant to the authority delegated to the FTZ Board Executive Secretary (15 CFR Sec. 400.36(f)), the application to establish Subzone 259B was approved on October 25, 2018, subject to the FTZ Act and the Board's regulations, including Section 400.13, and further subject to FTZ 259's 2,000-acre activation limit.

Dated: October 25, 2018.
Andrew McGilvray,
Executive Secretary.

[FR Doc. 2018-23662 Filed 10-29-18; 8:45 am]

BILLING CODE 3510-DS-P